DEPARTMENT OF COMMERCE

International Trade Administration

Initiation of Antidumping and Countervailing Duty Administrative Reviews

AGENCY: Import Administration, International Trade Administration, Department of Commerce.

ACTION: Notice of Initiation of Antidumping and Countervailing Duty Administrative Reviews.

SUMMARY: The Department of Commerce (the Department) has received requests to conduct administrative reviews of various antidumping and countervailing duty orders and findings with September anniversary dates. In accordance with the Department's regulations, we are initiating those administrative reviews.

DATES: Effective Date: October 31, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b) (2002), for administrative reviews of various antidumping and countervailing duty orders and findings with September anniversary dates.

Initiation of Reviews

In accordance with sections 19 CFR 351.221(c)(1)(i), we are initiating administrative reviews of the following antidumping and countervailing duty orders and findings. We intend to issue the final results of these reviews not later than September 30, 2007.

Antidumping duty proceedings | Period to be reviewed
Latvia: Steel Concrete Reinforcing Bars, A-449-804 | 9/1/05- 8/31/06
Joint Stock Company Liepajas Metalurgs
Republic of Korea: Stainless Steel Wire Rod, A-580-829 | 9/1/05- 8/31/06
Changwon Specialty Steel Co., Ltd
Dongbang Specialty Steel Co., Ltd
Republic of Korea: Steel Concrete Reinforcing Bars, A-580-844 | 9/1/05- 8/31/06
Dongkuk Steel Mill Co., Ltd
Hwanyoung Steel Industries Co., Ltd
Korea Iron and Steel Co., Ltd
Sweden: Stainless Steel Wire Rod, A-401-806 | 9/1/05- 8/31/06
Fagersta Stainless AB
The People's Republic of China: Freshwater Crawfish Tail Meat ¹, A-570-848 | 9/1/05- 8/31/06
Anhui Tongxin Aquatic Product & Food Co., Ltd
China Kingdom Import & Export Co., Ltd
aka China Kingdoma Import & Export Co., Ltd
aka Zhongda Import & Export Co., Ltd
Fujian Pelagic Fishery Group Co
Huoshan New Three-Gold Food Trade Co., Ltd
Leping Lotai Foods Co., Ltd
Nanjing Merry Trading Co., Ltd
Qingdao Jinyongxiang Aquatic Foods Co., Ltd
Qingdao Wentai Trading Co., Ltd
Shanghai Strong International Trading Co., Ltd
Weishan Hongrun Aquatic Food Co., Ltd
Weishan Zhenyu Foodstuff Co., Ltd
Xiping Opeck Food Co., Ltd
Xuzhou Jinjiang Foodstuffs Co., Ltd
Yancheng Hi-King Agriculture Developing Co., Ltd
Countervailing Duty Proceedings
None
Suspension Agreements
None
¹ If one of the above named companies does not qualify for a separate rate, all other exporters of freshwater crawfish tail meat from the People's Republic of China who have not qualified for a separate rate are deemed to be covered by this review as part of the single PRC entity of which the named exporters are a part. Additionally, for those companies for which we are conducting a new shipper review, this administrative review will only cover entries not covered by those new shipper reviews.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(I).

Dated: October 25, 2006.
Thomas F. Futtner,
Acting Office Director, AD/CVD Operations, Office 4, Import Administration.

[FR Doc. E6-18291 Filed 10-30-06; 8:45 am]

BILLING CODE 3510-DS-P